DEPARTMENT OF HOMELAND SECURITY

Office of the Secretary

[Docket No. DHS-2018-0032]

DHS Data Privacy and Integrity Advisory Committee

AGENCY: Privacy Office, DHS.

ACTION: Committee management; notice of committee charter renewal.

SUMMARY: The Secretary of Homeland Security has determined that the renewal of the Data Privacy and Integrity Advisory Committee is necessary and in the public interest in connection with the Department of Homeland Security's performance of its duties. This determination follows consultation with the Committee Management Secretariat, General Services Administration.

DATES: The committee's charter is effective May 24, 2018, and expires May 24, 2020.

ADDRESSES: If you desire to submit comments on this action, they must be submitted by (60 days after publication of Notice). Comments must be identified by DHS Docket Number (DHS-2018-0032) and may be submitted by one of the following methods:

• Federal eRulemaking Portal: http://www.regulations.gov. Follow the instructions for submitting comments.

• Email: PrivacyCommittee@dhs.gov. Include the Docket Number (DHS-2018-0032) in the subject line of the message.

• Fax: (202) 343-4010, ATTN: Sandra Taylor.

• Mail: Sandra Taylor, Designated Federal Officer, Data Privacy and Integrity Advisory Committee, Department of Homeland Security, 245 Murray Lane SW, Mail Stop 0655, Washington, DC 20528.

Instructions: All submissions must include the words “Department of Homeland Security” and DHS-2018-0032, the docket number for this action. Comments received will be posted without alteration at http://www.regulations.gov, including any personal information provided.

Docket: For access to the docket or to read background documents or comments received, go to http://www.regulations.gov.

FOR FURTHER INFORMATION CONTACT: Sandra Taylor, Designated Federal Officer, DHS Data Privacy and Integrity Advisory Committee, Department of Homeland Security, 245 Murray Lane SW, Mail Stop 0655, Washington, DC 20528, by telephone (202) 343-1717, by fax (202) 343-4010, or by email to privacycommittee@hq.dhs.gov.

SUPPLEMENTARY INFORMATION: Purpose and Objective: Under the authority of 6 U.S.C. 451, the Secretary of Homeland Security renewed the charter of the Data Privacy and Integrity Advisory Committee as a discretionary committee, which shall operate in accordance with the provisions of the Federal Advisory Committee Act (FACA), 5 U.S.C. Appendix. The Committee provides advice at the request of the Secretary of Homeland Security and the DHS Chief Privacy Officer on programmatic, policy, operational, administrative, and technological issues within the DHS that relate to personally identifiable information (PII), as well as data integrity and other privacy-related matters.

Dated: June 7, 2018.
Philip S. Kaplan,
Chief Privacy Officer, Department of Homeland Security.

[FR Doc. 2018-12668 Filed 6-12-18; 8:45 am]

BILLING CODE 9110-9L-P